DEPARTMENT OF THE INTERIOR

Bureau of Land Management

[FF01R05000/XXX/FSRS34510100000/OROR-106303965]

Notice of Proposed Withdrawal and Opportunity for Public Meeting for the Malheur National Wildlife Refuge, Oregon

AGENCY: Bureau of Land Management, Interior.

ACTION: Notice of proposed withdrawal.

SUMMARY: On behalf of the United States Fish and Wildlife Service (FWS) and subject to valid existing rights, the Secretary of the Interior proposes to withdraw 199.90 acres of public lands from appropriation under the public land laws, including location and entry under the United States mining laws, subject to valid existing rights, for up to 100 years to protect and reserve the land for management as part of the Malheur National Wildlife Refuge (NWR) located in Harney County, Oregon. This notice temporarily segregates these lands for up to 2 years and announces to the public an opportunity to comment and request a public meeting on the proposed withdrawal.

DATES: Comments and requests for a public meeting must be received by December 28, 2023.

ADDRESSES: All comments and meeting requests should be sent to the BLM Oregon/Washington State Director Attn: Malheur NWR Withdrawal Notice, P.O. Box 2965, Portland, Oregon 97208. The BLM will not consider comments via telephone calls. The application and case file are available for public examination by interested persons by appointment at the BLM Public Room, 1220 SW 3rd Ave., 11th Floor, Portland, Oregon 97208 during regular business hours 8:00 a.m. to 4:30 p.m., Monday through Friday except holidays. Please call 503-808-6001 to make an appointment.

FOR FURTHER INFORMATION CONTACT: Luke Poff, Realty Specialist, BLM Oregon/Washington State Office, 503-808-6249, email at lpoff@blm.gov, or you may contact the BLM office at the address noted above. The FWS can be reached at the Region 1 Regional Office, 911 NE 11th Ave. Portland, Oregon 97232 or through Sequoia Williams, Realty Specialist, at 503-956-7691, or by email at sequoia_williams@fws.gov. Individuals in the United States who are deaf, blind, hard of hearing, or have a speech disability may dial 711 (TTY, TDD, or TeleBraille) to access telecommunications relay services. Individuals outside the United States should use the relay services offered within their country to make international calls to the point-of-contact in the United States.

SUPPLEMENTARY INFORMATION: The FWS filed a petition/application requesting that the Secretary of the Interior withdraw the following described public lands from all forms of appropriation under the public land laws, including location and entry under the United States mining laws, subject to valid existing rights, for up to 100 years to protect and reserve the land for wildlife refuge purposes:

Willamette Meridian, Oregon

Malheur National Wildlife Refuge, Addition

T. 25 S., R. 33 E.,

Sec. 34, lot 10.

T. 26 S., R. 33 E.,

Sec. 3, lots 2, 4, and 10, and SW¼SE¼;

Sec. 10, W½NE¼.

The areas described aggregate 199.90 acres.

The Secretary of the Interior approved the FWS's petition. Therefore, the petition/application constitutes a withdrawal proposal of the Secretary of the Interior (43 CFR 2310.1-3(e)).

The use of a right-of-way, interagency agreement, or cooperative agreement would not provide adequate protection of the wildlife refuge. There are no suitable alternative sites since these lands are located within the Malheur NWR.

No water is necessary to fulfill the purpose of the proposed withdrawal.

Comments will be available for public review. Before including your address, phone number, email address, or other personal identifying information in your comment, you should be aware that your entire comment—including your personally identifying information—may be made publicly available at any time. While you may ask the BLM in your comment to withhold your personal identifying information from public review, we cannot guarantee that we will be able to do so.

An opportunity for a public meeting may be afforded in connection with the application for withdrawal. All interested persons who desire a public meeting for the purpose of being heard on the application for this withdrawal must submit a written request to the State Director, BLM Oregon/Washington State Office at the address in the ADDRESSES section, within 90 days from the date of publication of this notice. If the authorized officer determines that a public meeting will be held, a notice of the date, time, and place will be published in the Federal Register and local newspapers and posted on the BLM website at www.blm.gov at least 30 days before the scheduled date of the meeting.

For a period of two years from the date of publication of this notice in the Federal Register, the lands will be segregated as specified above unless the application is denied or cancelled or if the withdrawal is approved prior to that date. The temporary uses that may be permitted during this segregation period are leases, licenses, permits, rights-of-way, and disposal of mineral or vegetative resources other than under the mining laws.

The withdrawal application will be processed in accordance with the regulations set forth in 43 CFR 2300.

(Authority: 43 U.S.C. 1714)

Barry R. Bushue,
BLM Oregon/Washington State Director.

[FR Doc. 2023-21287 Filed 9-27-23; 8:45 am]

BILLING CODE 4310-HC-P